ENVIRONMENTAL PROTECTION AGENCY

40 CFR Part 194

[FRL 7860-2]

Proposed Approval of Waste Characterization Activities at the Hanford Central Characterization Project for Disposal at the Waste Isolation Pilot Plant

AGENCY: Environmental Protection Agency.

ACTION: Notice of availability; opening of public comment period.

SUMMARY: The Environmental Protection Agency (EPA, we, or Agency) is announcing, and soliciting public comment for 45 days on, EPA's proposed approval of the Hanford Central Characterization Project (CCP) to characterize retrievably-stored, contact-handled, transuranic (TRU) debris waste for disposal at the Waste Isolation Pilot Plant (WIPP). EPA is also proposing to designate any changes or expansions to this waste characterization approval as Tier 1, according to EPA's recently effective procedures for approval of WIPP waste generator sites. A Tier 1 designation means that DOE must first obtain written approval from EPA prior to disposing of waste characterized using new or revised processes, equipment, or waste streams. The documents related to this proposed approval are available for review in the public dockets listed in SUPPLEMENTARY INFORMATION. In accordance with our 40 CFR 194.8(b) approval process, the EPA conducted an inspection of the Hanford CCP from September 8-12, 2003. The purpose of the inspection was to determine the technical adequacy of the CCP as implemented at Hanford for the characterization of transuranic waste from the Plutonium Finishing Plant (PFP) to be disposed of at the WIPP in New Mexico. During the EPA inspection, EPA evaluated several waste characterization (WC) activities used to characterize retrievably-stored, contact-handled debris waste. EPA evaluated the equipment, procedures and personnel training/experience for acceptable knowledge (AK), nondestructive assay (NDA), nondestructive examination (NDE) and data transfer for the WIPP Waste Information System (WWIS).

DATES: EPA is requesting public comment on the documents. Comments must be received by EPA's official Air Docket on or before February 28, 2005.

ADDRESSES: Comments may be submitted by mail to: EPA Docket Center (EPA/DC), Air and Radiation Docket, Environmental Protection Agency, EPA West, Mail Code 6102T, 1200 Pennsylvania Avenue, NW., Washington, DC 20460. Attention Docket ID No. OAR-2004-0477. Comments may also be submitted electronically, by facsimile, or through hand delivery/courier. Follow the detailed instructions as provided in Unit I.B of the SUPPLEMENTARY INFORMATION section.

FOR FURTHER INFORMATION CONTACT: Mr. Ed Feltcorn, Office of Radiation and Indoor Air, (202) 343-9422. You can also call EPA's toll-free WIPP Information Line, 1-800-331-WIPP or visit our Web site at http://www.epa/gov/radiation/wipp.

SUPPLEMENTARY INFORMATION:

I. General Information

A. How Can I Get Copies of This Document and Other Related Information?

1. Docket. EPA has established an official public docket for this action under Docket ID No. OAR-2004-0477. The official public docket consists of the documents specifically referenced in this action, any public comments received, and other information related to this action. Although a part of the official docket, the public docket does not include Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1742. These documents are also available for review in paper form at the official EPA Air Docket in Washington, DC, Docket No. A-98-49, Category II-A2, and at the following three EPA WIPP informational docket locations in New Mexico: in Carlsbad at the Municipal Library, Hours: Monday-Thursday, 10 a.m.-9 p.m., Friday-Saturday, 10 a.m.-6 p.m., and Sunday, 1 p.m.-5 p.m.; in Albuquerque at the Government Publications Department, Zimmerman Library, University of New Mexico, Hours: vary by semester; and in Santa Fe at the New Mexico State Library, Hours: Monday-Friday, 9 a.m.-5 p.m. As provided in EPA's regulations at 40 CFR part 2, and in accordance with normal EPA docket procedures, if copies of any docket materials are requested, a reasonable fee may be charged for photocopying.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2004-0477. The system is an “anonymous access” system, which means EPA will not know your identity, e-mail address, or other contact information unless you provide it in the body of your comment.

ii. E-mail. Comments may be sent by electronic mail (e-mail) to a-and-r-docket@epa.gov, Attention Docket ID No. OAR-2004-0477. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

2. By mail. Send your comments to: EPA Docket Center (EPA/DC), Air and Radiation Docket, Environmental Protection Agency, EPA West, Mail Code 6102T, 1200 Pennsylvania Avenue, NW., Washington, DC 20460. Attention Docket ID No. OAR-2004-0477.

3. By hand delivery or courier. Deliver your comments to: Air and Radiation Docket, EPA Docket Center, (EPA/DC) EPA West, Room B102, 1301 Constitution Ave., NW., Washington, DC, Attention Docket ID No. OAR-2004-0477. Such deliveries are only accepted during the Docket's normal hours of operation as identified in Unit I.A.1.

4. By facsimile. Fax your comments to: (202) 566-1741, Attention Docket ID. No. OAR-2004-0477.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Background

DOE operates the WIPP near Carlsbad in southeastern New Mexico as a deep geologic repository for disposal of transuranic (TRU) radioactive waste. As defined by the WIPP Land Withdrawal Act (LWA) of 1992 (Pub. L. 102-579), as amended (Pub. L. 104-201), TRU waste consists of materials containing elements having atomic numbers greater than 92 (with half-lives greater than twenty years), in concentrations greater than 100 nanocuries of alpha-emitting TRU isotopes per gram of waste. Much of the existing TRU waste in the United States consists of items contaminated during the production of nuclear weapons, such as rags, equipment, tools, and sludges.

On May 13, 1998, EPA announced its final compliance certification decision to the Secretary of Energy (published May 18, 1998, 63 FR 27354). This decision stated that the WIPP will comply with EPA's radioactive waste disposal regulations at 40 CFR part 191, subparts B and C.

The final WIPP certification decision includes conditions that (1) prohibit shipment of TRU waste for disposal at WIPP from any site other than the Los Alamos National Laboratory (LANL) until EPA determines that the site has established and executed a quality assurance program, in accordance with §§ 194.22(a)(2)(i), 194.24(c)(3), and 194.24(c)(5) for WC activities and assumptions (Condition 2 of appendix A to 40 CFR part 194); and (2) prohibit shipment of TRU waste for disposal at WIPP from any site other than LANL until EPA has approved the procedures developed to comply with the waste characterization requirements of § 194.22(c)(4) (Condition 3 of appendix A to 40 CFR part 194).

In July 2004, EPA finalized changes to § 194.8(b) of the WIPP Compliance Criteria that modified the approval process for waste characterization programs at TRU waste generator/storage sites. According to these changes, EPA's waste characterization approval process will follow these steps for newly approved sites:

• EPA will conduct a baseline inspection at a TRU waste generator/storage site in accordance with the § 194.8 requirements and evaluate various waste characterization program components based on the site's demonstration of its capabilities.

• Following a baseline inspection, EPA will issue a Federal Register notice discussing the inspection results and a proposed “baseline compliance decision.” The Federal Register notice will specify what subsequent WC program changes or expansion must undergo further EPA inspection or approval under section 194.24 by assigning “tiering” designations to these activities.

• EPA will seek public comment on the proposed baseline compliance decision and place supporting documentation in the public dockets.

• After consideration of public comment, EPA will issue a final baseline compliance decision for a TRU waste site. Following this approval, EPA will continue to evaluate and approve, if necessary, changes to the approved WC program activities in accordance with the assigned tiering designations.

Waste generator sites are permitted to initiate waste characterization activities at a site prior to EPA's inspection. EPA inspectors observe all major elements of the waste characterization process during the baseline inspection. However, the waste generator sites are not permitted to ship characterized waste to WIPP without EPA's written approval.

Today's proposed baseline compliance decision for the Hanford CCP is the first action under the new approval process at 40 CFR 194.8(b). The Central Characterization Project was established by DOE to augment the ability of TRU waste sites to characterize and certify waste in accordance with EPA's WIPP Compliance Criteria. Because the CCP is essentially a mobile waste characterization facility, EPA treats CCP at Hanford (as we have with the CCP at other waste generator sites) as a separate WC program from the main Hanford site. Therefore, the Hanford CCP must meet all of the waste characterization and quality assurance requirements of the WIPP Compliance Criteria.

EPA conducted the inspection of the Hanford CCP from September 8-12, 2003. The purpose of the inspection was to determine the technical adequacy of the Hanford CCP to characterize TRU debris waste from the Plutonium Finishing Plant using acceptable knowledge (AK), nondestructive assay (NDA), nondestructive examination (NDE), and data transfer to the WIPP Waste Information System (WWIS). EPA inspectors observed testing of debris waste drums to measure radiological contents using the Mobile Segmented Gamma Scanner (SGS). As part of NDE, EPA inspectors also observed the examination of the physical content of debris waste drums using real-time radiography (RTR). (Visual examination was not evaluated as part of this inspection. Visual examination of these contact-handled TRU debris containers was performed using the Hanford main site's approved processes.) EPA's inspection identified several findings of non-conformance and concerns that prevented EPA from issuing an approval for the Hanford CCP. While DOE worked to resolve EPA's inspection findings, the Hanford CCP facility continued to characterize waste but did not ship any waste to WIPP. In fact, all of the Hanford CCP waste for which DOE is seeking approval, is currently characterized and awaiting EPA's approval for shipment.

In 2004, DOE was able to demonstrate adequate resolution of the inspection findings and concerns to EPA.

Between the time when EPA conducted the inspection and the time when the inspection findings were resolved, EPA's changes to the waste characterization approval process became effective (October 14, 2004). Under the newly revised 40 CFR 194.8(b), EPA is proposing to approve the disposal of retrievable-stored, contact-handled, TRU debris waste, characterized by the Hanford CCP at the WIPP using AK, NDA using the Mobile Segmented Gamma Scanner (SGS), NDE using real-time radiography (RTR). (Visual examination was not evaluated as part of this inspection. Visual examination of these contact-handled TRU debris containers was performed using the Hanford main site's approved processes.) EPA's inspection report is available from our docket and online. The inspection report describes what we inspected, what we determined to be technically adequate, what we identified as deficiencies and the corrective action that was required for EPA's proposed approval. In addition, the inspection report explains the basis for the tiering requirement and the subsequent reporting requirements.

EPA is proposing a Tier 1 designation for any changes to the approved Hanford CCP waste characterization activities. This means that DOE must obtain written approval from EPA prior to using any new or revised processes, equipment, or waste streams.

When EPA finalized the changes to the Compliance Criteria, EPA indicated that “the first approvals conducted under the new process are likely to be highly detailed and very intensive, since EPA will need to work with DOE and stakeholders to ensure that the full range of waste characterization activities is identified and placed in appropriate reporting/approval tiers.” We envisioned that this scheme, applied at a typical DOE waste generator site, would address a variety of possible program changes or expansions as clean-up operations progressed or more sophisticated techniques were developed. In such a case, various tiering levels would be necessary to address the relative significance of potential program changes. The Hanford CCP, however, is not typical of the situation we would expect for most approvals. As noted previously, Hanford CCP has already completed its intended waste characterization activities. All characterization was accomplished using exclusively the equipment and procedures described in our proposed approval, and was applied solely to the PFP debris waste stream. Because CCP operations at Hanford have concluded, we do not expect any changes or expansions to its waste characterization program. Therefore, for efficiency and simplicity, we are categorizing any and all changes as Tier 1. We believe this approach is simple and expedient, given that changes are not expected. Furthermore, this is appropriate given that any changes, if they did occur, would require re-deployment of the CCP at Hanford and warrant a high level of scrutiny. We emphasize that EPA does not believe that the Hanford CCP baseline compliance decision is typical of the inspections and approvals that will be done in the future under the new requirements of 40 CFR 194.8(b).

In summary, through this Federal Register notice, EPA is notifying the public that EPA is proposing to approve the Hanford CCP to characterize retrievably-stored, contact-handled, TRU debris waste from PFP for disposal at WIPP using AK; NDA using the Mobile Segmented Gamma Scanner (SGS); NDE using real-time radiography (RTR). (Visual examination was not evaluated as part of this inspection. Visual examination of these contact-handled TRU debris containers was performed using the Hanford main site's approved processes.) EPA is also proposing a Tier 1 designation for any and all changes or expansions to this approval. Additional EPA approval is required prior to applying approved processes and equipment to new waste streams, and prior to the use of new equipment or procedures to the approved waste stream.

Summary of Hanford CCP Approval
Waste characterization element | PFP debris waste | PFP solid waste
AK | Approved | Not approved.
NDA | Approved—SGS | Not approved.
NDE | Approved—RTR | Not approved.
| Approved—VE* | Not approved.
WWIS | Approved | Not approved.
Load Management | Not approved | Not approved.
* Approved process for main Hanford site.

Following a review and evaluation of public comments, EPA will finalize the proposed baseline compliance decision for the Hanford CCP. EPA will notify DOE of our final decision via letter and post the final decision on our Web site.

Dated: January 4, 2005.
Jeffrey R. Holmstead,
Assistant Administrator for Air and Radiation.

[FR Doc. 05-618 Filed 1-11-05; 8:45 am]

BILLING CODE 6560-50-P